NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 5, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: (301) 837-3698.

Requesters must cite the control number, which appears in parentheses after the name of the agency which submitted the schedule, and must provide a mailing address. Those who desire appraisal reports should so indicate in their request.

FOR FURTHER INFORMATION CONTACT: Laurence Brewer, Director, National Records Management Program (ACN), National Archives and Records Administration, 8601 Adelphi Road, College Park, MD 20740-6001. Telephone: (301) 837-1539. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Research Service (N1-310-12-1, 1 item, 1 temporary item). Master files of an electronic information system used to support researchers in developing technologies and strategies needed to help farmers and ranchers.

2. Department of Agriculture, Agricultural Research Service (N1-310-12-2, 1 item, 1 temporary item). Master files of an electronic information system used to improve the health, well being, and efficiency of livestock, poultry, and aquatic food animals.

3. Department of Agriculture, Agricultural Research Service (N1-310-12-3, 1 item, 1 temporary item). Master files of an electronic information system used to support researchers in developing program priorities and providing program review and evaluation regarding crop production and protection.

4. Department of Agriculture, Agricultural Research Service (N1-310-12-4, 1 item, 1 temporary item). Master files of an electronic information system used to define the role of food and its components in optimizing health for all Americans, develop tests and processes that keep the food supply safe, and reduce and control pathogens and toxins in agricultural products.

5. Department of the Army, Agency-wide (N1-AU-10-4, 1 item, 1 temporary item). Master files of electronic information systems used to track human resources information.

6. Department of the Army, Agency-wide (N1-AU-10-33, 1 item, 1 temporary item). Master files of an electronic information system used to manage food service operations at installations in the field.

7. Department of Commerce, National Oceanic and Atmospheric Administration (N1-370-12-1, 1 item, 1 temporary item). Records of the National Marine Fisheries Service, including physical examination reports and other documentation of the medical qualification of applicants.

8. Department of Health and Human Services, Office of the Secretary (DAA-0468-2012-0002, 2 items, 2 temporary items). Approved, unapproved, and withdrawn applications for employee child care subsidies.

9. Department of Justice, National Drug Intelligence Center, (N1-523-11-2, 1 item, 1 temporary item). Master files of an electronic information system containing domestic drug intelligence information that creates maps showing data on drug trends, threats, and other drug-related information.

10. Department of Labor, Wage and Hour Division (N1-155-11-1, 5 items, 1 temporary item). Records relating to the development and implementation of policies. Proposed for permanent retention are record relating to the rulemaking process, special committee hearing and meeting records, policy development guidance, and interpretive and technical advisories.

11. Department of State, Bureau of Diplomatic Security (DAA-0059-2011-0004, 9 items, 9 temporary items). Records of the Office of Human Resources Management, including administrative personnel files, copies of intra-agency agreements and personal services contracts, and master files of an electronic information system used to track employment application status.

12. Department of State, Bureau of Near Eastern Affairs (DAA-0059-2011-0013, 2 items, 2 temporary items). Grant management files for the Office of Iraq Economic and Assistance Affairs.

13. Department of State, Office of the Under Secretary for Management (DAA-0059-2011-0017, 1 item, 1 temporary item). Master files of an electronic information system used for online submission and processing of country clearance requests.

14. Department of the Treasury, Bureau of Engraving and Printing, (N1-318-11-1, 21 items, 20 temporary items). Records related to security systems and services, including investigations, police reports and orders, security training records, and surveillance tapes. Proposed for permanent retention are case files of significant internal investigations.

15. Department of the Treasury, Internal Revenue Service (N1-58-11-8, 2 items, 2 temporary items). Master files and system documentation of an electronic information system used to track and assess delinquent tax cases.

16. Department of the Treasury, Office of the Assistant Secretary for Management and Chief Financial Officer (N1-056-11-4, 1 item, 1 temporary item). Records pertaining to policy and program development of all air and hazardous waste materials programs.

17. Securities and Exchange Commission, Office of Human Resources (N1-266-11-1, 2 items, 2 temporary items). Forms and master files of an electronic information system used by employees and members to disclose personal securities holdings prior to acceptance of employment.

18. Social Security Administration, Office of Quality Data Management (DAA-0047-2011-0002, 9 items, 7 temporary items). Records of internal reviews, studies, and surveys of agency programs. Included are administrative records, instructional background files, study data and surveys, and working files. Proposed for permanent retention are program instruction manuals and final reports of studies.

Dated: November 29, 2011.
Paul M. Wester, Jr.,
Chief Records Officer for the U.S. Government.

[FR Doc. 2011-31284 Filed 12-5-11; 8:45 am]

BILLING CODE 7515-01-P